DEPARTMENT OF AGRICULTURE

Commodity Credit Corporation

7 CFR Part 1427

RIN 0560-AH29

Cottonseed Payment Program; Correction

AGENCY: Commodity Credit Corporation, USDA.

ACTION: Correcting amendment.

SUMMARY: This document corrects the final regulations published on January 26, 2006 to provide assistance to producers and first-handlers of the 2004 crop of cottonseed in counties declared a disaster by the President due to 2004 hurricanes and tropical storms. A correction is needed to change a reference from “cotton” to “cottonseed.”

DATES: Effective February 22, 2006.

FOR FURTHER INFORMATION CONTACT: Chris Kyer, phone: (202) 720-7935; e-mail: chris.kyer@wdc.usda.gov.

SUPPLEMENTARY INFORMATION:

Background

This document corrects the final regulations published on January 26, 2006 (71 FR 4231-4234) to provide assistance to producers and first-handlers of the 2004 crop of cottonseed in counties declared a disaster by the President due to 2004 hurricanes and tropical storms. In the final rule, section 1427.1103(b) mistakenly refers to cotton, rather than cottonseed, in stating that “Cotton must not have been destroyed or damaged by fire, flood, or other events such that its loss or damage was compensated by other local, State, or Federal government or private or public insurance or disaster relief payments” in order to be eligible under the Cottonseed Payment Program. This correction changes the term “cotton” to “cottonseed.”

List of Subjects in 7 CFR Part 1427

Agriculture, Cottonseed.

Accordingly, 7 CFR part 1427 is corrected as follows:

PART 1427—COTTON

1. The authority citation for 7 CFR part 1427 continues to read as follows:

Authority: 7 U.S.C. 7231-7239; 15 U.S.C. 714b, 714c; Pub. L. 108-324, Pub. L. 108-447.

2. Revise § 1427.1103(b) to read as follows:

§ 1427.1103 Eligible cottonseed and counties.

* * * * *

(b) Cottonseed must not have been destroyed or damaged by fire, flood, or other events such that its loss or damage was compensated by other local, State, or Federal government or private or public insurance or disaster relief payments.

Signed in Washington, DC, on February 15, 2006.
Michael W. Yost,
Acting Executive Vice President, Commodity Credit Corporation.

[FR Doc. 06-1645 Filed 2-21-06; 8:45 am]

BILLING CODE 3410-05-P